DEPARTMENT OF TRANSPORTATION

Federal Aviation Administration

14 CFR Part 97

[Docket No. 31020; Amdt. No. 3646]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective June 8, 2015. The compliance date for each SIAP, associated Takeoff Minimums, and ODP is specified in the amendatory provisions.

The incorporation by reference of certain publications listed in the regulations is approved by the Director of the Federal Register as of June 8, 2015.

ADDRESSES: Availability of matter incorporated by reference in the amendment is as follows:

For Examination

1. U.S. Department of Transportation, Docket Ops-M30, 1200 New Jersey Avenue SE., West Bldg., Ground Floor, Washington, DC, 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK. 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on May 22, 2015.
John Duncan,
Director, Flight Standards Service.

Adoption of the Amendment

Accordingly, pursuant to the authority delegated to me, Title 14, Code of Federal Regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
25-Jun-15 | MS | Starkville | George M Bryan | 5/7853 | 4/30/15 | This NOTAM, published in TL 15-13, is hereby rescinded in its entirety.
25-Jun-15 | MS | Starkville | George M Bryan | 5/7854 | 4/30/15 | This NOTAM, published in TL 15-13, is hereby rescinded in its entirety.
25-Jun-15 | MS | Starkville | George M Bryan | 5/7855 | 04/30/15 | This NOTAM, published in TL 15-13, is hereby rescinded in its entirety.
25-Jun-15 | MN | Montevideo | Montevideo-Chippewa County | 5/0229 | 05/13/15 | RNAV (GPS) Rwy 32, Orig.
25-Jun-15 | MN | Montevideo | Montevideo-Chippewa County | 5/0253 | 05/13/15 | VOR Rwy 14, Amdt 5.
25-Jun-15 | MN | Montevideo | Montevideo-Chippewa County | 5/0262 | 05/13/15 | RNAV (GPS) Rwy 14, Orig.
25-Jun-15 | VA | Lynchburg | Lynchburg Rgnl/Preston Glenn Fld | 5/1103 | 05/05/15 | RNAV (GPS) Rwy 35, Orig.
25-Jun-15 | VA | Lynchburg | Lynchburg Rgnl/Preston Glenn Fld | 5/1106 | 05/05/15 | RNAV (GPS) Rwy 17, Orig.
25-Jun-15 | VA | West Point | Middle Peninsula Rgnl | 5/1109 | 05/05/15 | RNAV (GPS) Rwy 28, Orig-B.
25-Jun-15 | TN | Union City | Everett-Stewart Rgnl | 5/1331 | 05/05/15 | RNAV (GPS) Rwy 19, Amdt 1.
25-Jun-15 | VA | Jonesville | Lee County | 5/1333 | 05/05/15 | RNAV (GPS) Rwy 7, Amdt 1.
25-Jun-15 | AL | Gadsden | Northeast Alabama Rgnl | 5/1704 | 05/08/15 | ILS OR LOC/DME Rwy 24, Orig.
25-Jun-15 | AL | Gadsden | Northeast Alabama Rgnl | 5/1705 | 05/08/15 | RNAV (GPS) Rwy 24, Amdt 1.
25-Jun-15 | AL | Gadsden | Northeast Alabama Rgnl | 5/1706 | 05/08/15 | RNAV (GPS) Rwy 18, Amdt 1.
25-Jun-15 | AL | Gadsden | Northeast Alabama Rgnl | 5/1707 | 05/08/15 | RNAV (GPS) Rwy 36, Amdt 1.
25-Jun-15 | CO | Denver | Rocky Mountain Metropolitan | 5/2288 | 05/19/15 | VOR/DME Rwy 30 L/R, Amdt 1.
25-Jun-15 | GA | Thomson | Thomson-McDuffie County | 5/2300 | 05/05/15 | NDB Rwy 10, Amdt 1.
25-Jun-15 | GA | Thomson | Thomson-McDuffie County | 5/2301 | 05/05/15 | RNAV (GPS) Rwy 10, Orig.
25-Jun-15 | TN | Bristol/Johnson/Kingsport | Tri-Cities Rgnl TN/VA | 5/2545 | 05/05/15 | RNAV (GPS) Rwy 23, Amdt 1.
25-Jun-15 | TN | Bristol/Johnson/Kingsport | Tri-Cities Rgnl TN/VA | 5/2547 | 05/05/15 | RNAV (GPS) Rwy 5, Amdt 1.
25-Jun-15 | TN | Bristol/Johnson/Kingsport | Tri-Cities Rgnl TN/VA | 5/2550 | 05/05/15 | ILS OR LOC Rwy 5, Amdt 3.
25-Jun-15 | PA | Philipsburg | Mid-State | 5/2821 | 05/05/15 | RNAV (GPS) Rwy 16, Orig-A.
25-Jun-15 | PA | Philipsburg | Mid-State | 5/2822 | 05/05/15 | VOR Rwy 24, Amdt 16A.
25-Jun-15 | NY | New York | La Guardia | 5/2834 | 05/06/15 | RNAV (GPS) Y Rwy 4, Amdt 3.
25-Jun-15 | KY | Ashland | Ashland Rgnl | 5/2843 | 05/14/15 | VOR Rwy 10, Amdt 11A.
25-Jun-15 | RI | Newport | Newport State | 5/2874 | 05/05/15 | RNAV (GPS) Rwy 16, Orig.
25-Jun-15 | RI | Newport | Newport State | 5/2875 | 05/05/15 | VOR/DME Rwy 16, Amdt 1.
25-Jun-15 | RI | Newport | Newport State | 5/2876 | 05/05/15 | LOC Rwy 22, Amdt 7B.
25-Jun-15 | TX | Denton | Denton Muni | 5/3344 | 05/05/15 | RNAV (GPS) Rwy 36, Amdt 2.
25-Jun-15 | MD | Ocean City | Ocean City Muni | 5/3438 | 05/13/15 | Takeoff Minimums and (Obstacle) DP, Amdt 3.
25-Jun-15 | FL | Jacksonville | Herlong Recreational | 5/3470 | 05/05/15 | NDB-A, Orig-A.
25-Jun-15 | VA | Norfolk | Norfolk Intl | 5/3537 | 05/05/15 | RNAV (GPS) Z Rwy 23, Amdt 1.
25-Jun-15 | VA | Norfolk | Norfolk Intl | 5/3538 | 05/05/15 | RNAV (RNP) Y Rwy 23, Orig.
25-Jun-15 | VA | Norfolk | Norfolk Intl | 5/3539 | 05/05/15 | ILS OR LOC Rwy 23, Amdt 7.
25-Jun-15 | VA | Norfolk | Norfolk Intl | 5/3540 | 05/05/15 | RNAV (GPS) Z Rwy 5, Amdt 1A.
25-Jun-15 | VA | Norfolk | Norfolk Intl | 5/3541 | 05/05/15 | RNAV (RNP) Y Rwy 5, Orig-A.
25-Jun-15 | VA | Norfolk | Norfolk Intl | 5/3542 | 05/05/15 | ILS OR LOC Rwy 5, Amdt 26A.
25-Jun-15 | PA | Clarion | Clarion County | 5/3712 | 05/06/15 | RNAV (GPS) Rwy 6, Amdt 1.
25-Jun-15 | GA | Atlanta | Fulton County Airport-Brown Field | 5/3992 | 05/08/15 | RNAV (GPS) Rwy 26, Amdt 1A.
25-Jun-15 | GA | Atlanta | Fulton County Airport-Brown Field | 5/3994 | 05/08/15 | VOR-A, Amdt 1A.
25-Jun-15 | GA | Atlanta | Fulton County Airport-Brown Field | 5/3996 | 05/08/15 | NDB Rwy 8, Amdt 4.
25-Jun-15 | SC | Bennettsville | Marlboro County Jetport- H E Avent Field | 5/4012 | 05/08/15 | NDB Rwy 7, Amdt 5.
25-Jun-15 | SC | Bennettsville | Marlboro County Jetport- H E Avent Field | 5/4013 | 05/08/15 | RNAV (GPS) Rwy 7, Amdt 1.
25-Jun-15 | SC | Bennettsville | Marlboro County Jetport- H E Avent Field | 5/4014 | 5/8/2015 | RNAV (GPS) Rwy 25, Amdt 1.
25-Jun-15 | WV | Morgantown | Morgantown Muni-Walter L Bill Hart Fld | 5/4617 | 05/12/15 | ILS OR LOC Rwy 18, Amdt 13A.
25-Jun-15 | WV | Morgantown | Morgantown Muni-Walter L Bill Hart Fld | 5/4618 | 05/12/15 | RNAV (GPS) Z Rwy 18, Orig.
25-Jun-15 | WV | Morgantown | Morgantown Muni-Walter L Bill Hart Fld | 5/4619 | 05/12/15 | RNAV (GPS) Rwy 36, Orig-A.
25-Jun-15 | WV | Morgantown | Morgantown Muni-Walter L Bill Hart Fld | 5/4620 | 05/12/15 | RNAV (GPS) Y Rwy 18, Orig-A.
25-Jun-15 | VA | Blacksburg | Virginia Tech/Montgomery Executive | 5/4648 | 05/08/15 | RNAV (GPS) Rwy 12, Amdt 2.
25-Jun-15 | NJ | Manville | Central Jersey Rgnl | 5/4653 | 05/08/15 | VOR-A, Amdt 7A.
25-Jun-15 | AL | Gadsden | Northeast Alabama Rgnl | 5/4767 | 05/08/15 | RNAV (GPS) Rwy 6, Amdt 1A.
25-Jun-15 | VA | Roanoke | Roanoke Rgnl/Woodrum Field | 5/4809 | 05/13/15 | VOR/NDB Rwy 34, Amdt 1.
25-Jun-15 | VA | Roanoke | Roanoke Rgnl/Woodrum Field | 5/4810 | 05/13/15 | RNAV (GPS) Rwy 34, Amdt 1A.
25-Jun-15 | VA | Roanoke | Roanoke Rgnl/Woodrum Field | 5/4812 | 05/13/15 | ILS OR LOC Rwy 34, Amdt 14A.
25-Jun-15 | CA | Sacramento | Sacramento Intl | 5/4941 | 05/06/15 | ILS OR LOC Rwy 16R, ILS RWY 16R (SA CAT I), ILS Rwy 16R (CAT II & III), Amdt 16A.
25-Jun-15 | PA | Wilkes-Barre/Scranton | Wilkes-Barre/Scranton Intl | 5/5247 | 05/08/15 | RNAV (GPS) Rwy 22, Amdt 1A.
25-Jun-15 | IN | Bedford | Virgil I Grissom Muni | 5/5331 | 05/08/15 | RNAV (GPS) Rwy 31, Amdt 1A.
25-Jun-15 | AK | Iliamna | Iliamna | 5/5400 | 05/05/15 | RNAV (GPS) Rwy 35, Amdt 2A.
25-Jun-15 | UT | St George | St George Muni | 5/5401 | 05/05/15 | LDA/DME Rwy 19, Orig-A.
25-Jun-15 | UT | St George | St George Muni | 5/5402 | 05/05/15 | RNAV (GPS) Rwy 19, Orig-A.
25-Jun-15 | CA | Truckee | Truckee-Tahoe | 5/5403 | 05/10/15 | RNAV (GPS) Y Rwy 20, Orig.
25-Jun-15 | CA | Truckee | Truckee-Tahoe | 5/5404 | 05/10/15 | RNAV (GPS) Z Rwy 20, Orig-A.
25-Jun-15 | CA | Truckee | Truckee-Tahoe | 5/5418 | 05/10/15 | RNAV (GPS) Rwy 11, Orig.
25-Jun-15 | PA | Selinsgrove | Penn Valley | 5/5446 | 05/04/15 | RNAV (GPS) Rwy 17, Orig-A.
25-Jun-15 | PA | Selinsgrove | Penn Valley | 5/5447 | 05/04/15 | VOR-A, Amdt 7A.
25-Jun-15 | PA | Lancaster | Lancaster | 5/5939 | 05/06/15 | RNAV (GPS) Rwy 13, Amdt 1.
25-Jun-15 | PA | Lancaster | Lancaster | 5/5940 | 05/06/15 | RNAV (GPS) Rwy 26, Amdt 2.
25-Jun-15 | PA | Lancaster | Lancaster | 5/5941 | 05/06/15 | RNAV (GPS) Rwy 31, Amdt 1.
25-Jun-15 | PA | Lancaster | Lancaster | 5/5968 | 05/06/15 | RNAV (GPS) Rwy 8, Amdt 3A.
25-Jun-15 | OR | Scappoose | Scappoose Industrial Airpark | 5/6346 | 05/06/15 | LOC/DME Rwy 15, Amdt 3A.
25-Jun-15 | CA | Marysville | Yuba County | 5/6347 | 05/06/15 | VOR Rwy 32, Amdt 10F.
25-Jun-15 | CA | Marysville | Yuba County | 5/6348 | 05/06/15 | RNAV (GPS) Rwy 32, Orig-B.
25-Jun-15 | CA | Marysville | Yuba County | 5/6349 | 05/06/15 | RNAV (GPS) Rwy 14, Orig-B.
25-Jun-15 | CA | Marysville | Yuba County | 5/6350 | 05/06/15 | ILS OR LOC Rwy 14, Amdt 5C.
25-Jun-15 | OK | Frederick | Frederick Rgnl | 5/6717 | 05/08/15 | RNAV (GPS) Rwy 35, Orig.
25-Jun-15 | OK | Muskogee | Davis Field | 5/6721 | 05/08/15 | RNAV (GPS) Rwy 13, Orig-A.
25-Jun-15 | OK | Muskogee | Davis Field | 5/6722 | 05/08/15 | RNAV (GPS) Rwy 31, Amdt 1B.
25-Jun-15 | OK | Muskogee | Davis Field | 5/6723 | 05/08/15 | RNAV (GPS) Rwy 22, Orig-A.
25-Jun-15 | OK | Muskogee | Davis Field | 5/6724 | 05/08/15 | RNAV (GPS) Rwy 4, Amdt 1A.
25-Jun-15 | IL | Lacon | Marshall County | 5/6728 | 05/08/15 | RNAV (GPS) Rwy 13, Orig.
25-Jun-15 | IL | Lacon | Marshall County | 5/6729 | 05/08/15 | VOR Rwy 13, Amdt 2B.
25-Jun-15 | MI | Caro | Tuscola Area | 5/6778 | 05/08/15 | RNAV (GPS) Rwy 23, Orig.
25-Jun-15 | MI | Caro | Tuscola Area | 5/6779 | 05/08/15 | RNAV (GPS) Rwy 5, Orig.
25-Jun-15 | MI | Caro | Tuscola Area | 5/6780 | 05/08/15 | VOR/DME-A, Amdt 5.
25-Jun-15 | TN | Millington | Millington Rgnl Jetport | 5/6824 | 05/06/15 | RNAV (GPS) Rwy 4, Amdt 1.
25-Jun-15 | TN | Oneida | Scott Muni | 5/6825 | 05/06/15 | RNAV (GPS) Rwy 23, Amdt 1.
25-Jun-15 | TN | Oneida | Scott Muni | 5/6826 | 05/06/15 | RNAV (GPS) Rwy 5, Amdt 1.
25-Jun-15 | TN | Cleveland | Cleveland Rgnl Jetport | 5/6827 | 05/06/15 | RNAV (GPS) Rwy 21, Amdt 1.
25-Jun-15 | TN | Cleveland | Cleveland Rgnl Jetport | 5/6828 | 05/06/15 | RNAV (GPS) Rwy 3, Amdt 1.
25-Jun-15 | TN | Tullahoma | Tullahoma Rgnl Arpt/Wm Northern Field | 5/6830 | 05/08/15 | RNAV (GPS) Rwy 36, Amdt 1A.
25-Jun-15 | TN | Tullahoma | Tullahoma Rgnl Arpt/Wm Northern Field | 5/6831 | 05/08/15 | RNAV (GPS) Rwy 24, Amdt 1A.
25-Jun-15 | TN | Tullahoma | Tullahoma Rgnl Arpt/Wm Northern Field | 5/6832 | 05/08/15 | NDB Rwy 18, Amdt 3A.
25-Jun-15 | TN | Tullahoma | Tullahoma Rgnl Arpt/Wm Northern Field | 5/6833 | 05/08/15 | VOR Rwy 6, Amdt 1A.
25-Jun-15 | TN | Tullahoma | Tullahoma Rgnl Arpt/Wm Northern Field | 5/6834 | 05/08/15 | RNAV (GPS) Rwy 6, Amdt 1A.
25-Jun-15 | TN | Tullahoma | Tullahoma Rgnl Arpt/Wm Northern Field | 5/6835 | 05/08/15 | RNAV (GPS) Rwy 18, Amdt 1A.
25-Jun-15 | UT | Delta | Delta Muni | 5/6852 | 05/08/15 | RNAV (GPS) Rwy 17, Amdt 1B.
25-Jun-15 | UT | Delta | Delta Muni | 5/6853 | 05/08/15 | RNAV (GPS) Rwy 35, Amdt 1B.
25-Jun-15 | UT | Delta | Delta Muni | 5/6854 | 05/08/15 | VOR/DME Rwy 17, Amdt 2.
25-Jun-15 | UT | Delta | Delta Muni | 5/6855 | 05/08/15 | VOR Rwy 35, Amdt 3.
25-Jun-15 | PA | Lancaster | Lancaster | 5/6857 | 05/06/15 | ILS OR LOC Rwy 8, Amdt 2.
25-Jun-15 | IA | Ankeny | Ankeny Rgnl | 5/6927 | 05/08/15 | RNAV (GPS) Rwy 36, Amdt 1A.
25-Jun-15 | IA | Ankeny | Ankeny Rgnl | 5/6928 | 05/08/15 | RNAV (GPS) Rwy 18, Amdt 1A.
25-Jun-15 | IA | Ankeny | Ankeny Rgnl | 5/6929 | 05/08/15 | RNAV (GPS) Rwy 22, Orig-A.
25-Jun-15 | IA | Ankeny | Ankeny Rgnl | 5/6930 | 05/08/15 | ILS OR LOC Rwy 36, Amdt 2A.
25-Jun-15 | VA | Forest | New London | 5/6949 | 05/06/15 | RNAV (GPS) Rwy 36, Orig.
25-Jun-15 | VA | Forest | New London | 5/6950 | 05/06/15 | RNAV (GPS) Rwy 18, Orig.
25-Jun-15 | TN | Union City | Everett-Stewart Rgnl | 5/7024 | 05/08/15 | RNAV (GPS) Rwy 1, Amdt 3.
25-Jun-15 | NJ | Ocean City | Ocean City Muni | 5/7026 | 05/08/15 | VOR-A, Orig.
25-Jun-15 | NJ | Ocean City | Ocean City Muni | 5/7027 | 05/08/15 | GPS Rwy 6, Orig-A.
25-Jun-15 | TN | Chattanooga | Lovell Field | 5/7042 | 05/08/15 | ILS OR LOC Rwy 2, Amdt 7B.
25-Jun-15 | GA | Vidalia | Vidalia Rgnl | 5/7132 | 04/30/15 | RNAV (GPS) Rwy 24, Amdt 1A.
25-Jun-15 | DC | Washington | Ronald Reagan Washington National | 5/7237 | 05/13/15 | LDA Z Rwy 19, Amdt 3.
25-Jun-15 | DC | Washington | Ronald Reagan Washington National | 5/7238 | 05/13/15 | LDA Y Rwy 19, Orig.
25-Jun-15 | KS | Atchison | Amelia Earhart | 5/7386 | 05/08/15 | VOR/DME RNAV OR GPS Rwy 16, Amdt 4.
25-Jun-15 | KS | Atchison | Amelia Earhart | 5/7387 | 05/08/15 | VOR/DME Rwy 16, Orig.
25-Jun-15 | TN | Union City | Everett-Stewart Rgnl | 5/7396 | 05/08/15 | ILS OR LOC Rwy 1, Amdt 2.
25-Jun-15 | FL | Ormond Beach | Ormond Beach Muni | 5/7490 | 05/12/15 | RNAV (GPS) Rwy 17, Amdt 1.
25-Jun-15 | FL | Ormond Beach | Ormond Beach Muni | 5/7491 | 05/12/15 | VOR Rwy 17, Amdt 2A.
25-Jun-15 | FL | Ormond Beach | Ormond Beach Muni | 5/7493 | 05/12/15 | RNAV (GPS) Rwy 26, Amdt 1.
25-Jun-15 | FL | Ormond Beach | Ormond Beach Muni | 5/7494 | 05/12/15 | RNAV (GPS) Rwy 8, Amdt 1A.
25-Jun-15 | VA | Newport News | Newport News/Williamsburg Intl | 5/7547 | 05/06/15 | ILS OR LOC Rwy 25, Amdt 1A.
25-Jun-15 | VA | Newport News | Newport News/Williamsburg Intl | 5/7550 | 05/06/15 | LOC/DME Rwy 20, Amdt 1A.
25-Jun-15 | GA | Americus | Jimmy Carter Rgnl | 5/7679 | 05/04/15 | ILS OR LOC/NDB Rwy 23, Amdt 1.
25-Jun-15 | VA | Petersburg | Dinwiddie County | 5/7681 | 05/04/15 | LOC/NDB Rwy 5, Orig-A.
25-Jun-15 | KY | Flemingsburg | Fleming-Mason | 5/7682 | 05/04/15 | LOC/NDB Rwy 25, Amdt 1.
25-Jun-15 | GA | Calhoun | Tom B David Fld | 5/7683 | 05/04/15 | LOC/NDB-A, Orig.
25-Jun-15 | PA | Somerset | Somerset County | 5/7687 | 05/04/15 | LOC/NDB Rwy 25, Amdt 4A.
25-Jun-15 | OK | Mc Alester | Mc Alester Rgnl | 5/7691 | 05/12/15 | VOR/DME Rwy 20, Amdt 2E.
25-Jun-15 | TX | Nacogdoches | A L Mangham Jr Rgnl | 5/7694 | 05/13/15 | NDB Rwy 18, Amdt 1A.
25-Jun-15 | NH | Whitefield | Mount Washington Rgnl | 5/7701 | 05/04/15 | LOC/NDB Rwy 10, Amdt 7.
25-Jun-15 | GA | Carrollton | West Georgia Rgnl—O V Gray Field | 5/7702 | 05/04/15 | ILS OR LOC/NDB Rwy 35, Orig.
25-Jun-15 | GA | Douglas | Douglas Muni | 5/7747 | 05/04/15 | ILS OR LOC/NDB Rwy 4, Amdt 2A.
25-Jun-15 | FL | St Petersburg | Albert Whitted | 5/7782 | 05/13/15 | RNAV (GPS) Rwy 18, Orig-B.
25-Jun-15 | CA | Riverside | Riverside Muni | 5/7815 | 05/08/15 | ILS OR LOC Rwy 9, Amdt 8B.
25-Jun-15 | CA | Riverside | Riverside Muni | 5/7816 | 05/08/15 | RNAV (GPS) Rwy 9, Amdt 2A.
25-Jun-15 | CA | Riverside | Riverside Muni | 5/7817 | 05/08/15 | VOR Rwy 9, Amdt 1A.
25-Jun-15 | CA | Riverside | Riverside Muni | 5/7818 | 05/08/15 | VOR-A, Orig.
25-Jun-15 | AK | St Mary's | St Mary's | 5/7819 | 05/08/15 | LOC/DME Rwy 17, Amdt 5B.
25-Jun-15 | OR | Salem | McNary Fld | 5/7821 | 05/08/15 | LOC/DME BC Rwy 13, Amdt 8.
25-Jun-15 | OH | Cambridge | Cambridge Muni | 5/7977 | 05/13/15 | VOR-A, Amdt 4.
25-Jun-15 | OH | Cambridge | Cambridge Muni | 5/7979 | 05/13/15 | LOC/DME Rwy 22, Amdt 1B.
25-Jun-15 | OH | Cambridge | Cambridge Muni | 5/7981 | 05/13/15 | RNAV (GPS) Rwy 4, Orig-A.
25-Jun-15 | OH | Tiffin | Seneca County | 5/8225 | 05/12/15 | NDB Rwy 24, Amdt 7B.
25-Jun-15 | FL | Hollywood | North Perry | 5/8526 | 05/13/15 | RNAV (GPS) Rwy 10R, Orig-A.
25-Jun-15 | FL | Hollywood | North Perry | 5/8528 | 05/13/15 | RNAV (GPS) Rwy 28R, Orig-A.
25-Jun-15 | GA | Vidalia | Vidalia Rgnl | 5/8557 | 05/08/15 | ILS OR LOC/NDB Rwy 24, Amdt 1.
25-Jun-15 | NM | Alamogordo | Alamogordo-White Sands Rgnl | 5/8653 | 05/13/15 | VOR Rwy 3, Amdt 2A.
25-Jun-15 | NM | Alamogordo | Alamogordo-White Sands Rgnl | 5/8654 | 05/13/15 | RNAV (GPS) Rwy 3, Orig-A.
25-Jun-15 | NM | Alamogordo | Alamogordo-White Sands Rgnl | 5/8655 | 05/13/15 | VOR/DME Rwy 3, Orig-A.
25-Jun-15 | TX | Nacogdoches | A L Mangham Jr Rgnl | 5/8755 | 05/13/15 | ILS OR LOC Rwy 36, Amdt 3B.
25-Jun-15 | MI | Sault Ste Marie | Chippewa County Intl | 5/8758 | 05/12/15 | ILS OR LOC Rwy 16, Amdt 8B.
25-Jun-15 | IL | Chicago/Prospect Heights/Wheeling | Chicago Executive | 5/8761 | 05/13/15 | ILS OR LOC Rwy 16, Amdt 2C.
25-Jun-15 | OK | Tulsa | Tulsa Intl | 5/8766 | 05/13/15 | VOR/DME Rwy 8, Amdt 4A.
25-Jun-15 | KY | Somerset | Lake Cumberland Rgnl | 5/8799 | 05/13/15 | ILS OR LOC/DME Rwy 5, Orig-B.
25-Jun-15 | KY | Somerset | Lake Cumberland Rgnl | 5/8800 | 05/13/15 | RNAV (GPS) Y Rwy 5, Amdt 3.
25-Jun-15 | MN | Ely | Ely Muni | 5/9087 | 05/13/15 | RNAV (GPS) Rwy 12, Amdt 1A.
25-Jun-15 | MN | Silver Bay | Silver Bay Muni | 5/9407 | 05/13/15 | NDB Rwy 25, Orig.
25-Jun-15 | MN | Silver Bay | Silver Bay Muni | 5/9419 | 05/13/15 | RNAV (GPS) Rwy 25, Orig.
25-Jun-15 | TX | Weslaco | Mid Valley | 5/9422 | 05/13/15 | GPS Rwy 13, Orig-A.
25-Jun-15 | TX | Weslaco | Mid Valley | 5/9423 | 05/13/15 | VOR/DME-A, Orig.
25-Jun-15 | IL | Paxton | Paxton | 5/9445 | 05/13/15 | RNAV (GPS) Rwy 18, Orig.
25-Jun-15 | IL | Paxton | Paxton | 5/9446 | 05/13/15 | VOR Rwy 18, Amdt 2.
25-Jun-15 | LA | Winnfield | David G Joyce | 5/9450 | 05/13/15 | RNAV (GPS) Rwy 27, Orig.
25-Jun-15 | LA | Winnfield | David G Joyce | 5/9451 | 05/13/15 | RNAV (GPS) Rwy 9, Orig-A.
25-Jun-15 | IA | Chariton | Chariton Muni | 5/9553 | 05/13/15 | RNAV (GPS) Rwy 10, Orig.
25-Jun-15 | IA | Chariton | Chariton Muni | 5/9554 | 05/13/15 | RNAV (GPS) Rwy 17, Amdt 1A.
25-Jun-15 | OH | Cincinnati | Cincinnati Muni Airport Lunken Field | 5/9719 | 05/13/15 | ILS OR LOC Rwy 21L, Amdt 19.
25-Jun-15 | OH | Cincinnati | Cincinnati Muni Airport Lunken Field | 5/9720 | 05/13/15 | NDB Rwy 21L, Amdt 17A.
25-Jun-15 | OH | Cincinnati | Cincinnati Muni Airport Lunken Field | 5/9721 | 05/13/15 | RNAV (GPS) Rwy 21L, Amdt 1B.
25-Jun-15 | OH | Cincinnati | Cincinnati Muni Airport Lunken Field | 5/9722 | 05/13/15 | NDB Rwy 25, Amdt 12A.
25-Jun-15 | OH | Cincinnati | Cincinnati Muni Airport Lunken Field | 5/9723 | 05/13/15 | LOC BC Rwy 3R, Amdt 8D.
25-Jun-15 | OH | Cincinnati | Cincinnati Muni Airport Lunken Field | 5/9724 | 05/13/15 | RNAV (GPS) Rwy 25, Amdt 1A.

[FR Doc. 2015-13824 Filed 6-5-15; 8:45 am]

BILLING CODE 4910-13-P